DEPARTMENT OF AGRICULTURE

Foreign Agricultural Service

WTO Agricultural Quantity-Based Safeguard Trigger Levels

AGENCY: Foreign Agricultural Service, Department of Agriculture.

ACTION: Notice of product coverage and trigger levels for safeguard measures provided for in the World Trade Organization (WTO) agreement on agriculture.

SUMMARY: This notice lists the updated quantity-based trigger levels for products which may be subject to additional import duties under the safeguard provisions of the WTO Agreement on Agriculture. This notice also includes the relevant period applicable for the trigger levels on each of the listed products.

DATES: This notice is applicable on June 16, 2023.

ADDRESSES: Multilateral Affairs Division, Trade Policy and Geographic Affairs, Foreign Agricultural Service, U.S. Department of Agriculture, Stop 1070, 1400 Independence Avenue SW, Washington, DC 20250-1070.

FOR FURTHER INFORMATION CONTACT: Sonya Wahi-Miller, 202-649-3870, sonya.wahi-miller@usda.gov.

SUPPLEMENTARY INFORMATION: Article 5 of the WTO Agreement on Agriculture provides that additional import duties may be imposed on imports of products subject to tariffication as a result of the Uruguay Round, if certain conditions are met. The agreement permits additional duties to be charged if the price of an individual shipment of imported products falls below the average price for similar goods imported during the years 1986-88 by a specified percentage. It also permits additional duties when the volume of imports of that product exceeds the sum of (1) a base trigger level multiplied by the average of the last three years of available import data and (2) the change in yearly consumption in the most recent year for which data are available (provided that the final trigger level is not less than 105 percent of the three-year import average). The base trigger level is set at 105, 110, or 125 percent of the three-year import average, depending on the percentage of domestic consumption that is represented by imports. These additional duties may not be imposed on quantities for which minimum or current access commitments were made during the Uruguay Round negotiations, and only one type of safeguard, price or quantity, may be applied at any given time to an article.

Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, dated December 23, 1994, 60 FR 1007 (Jan. 4, 1995). The Secretary of Agriculture further delegated this duty, which lies with the Administrator of the Foreign Agricultural Service (7 CFR 2.601(a)(42)). The Annex to this notice contains the updated quantity trigger levels, consistent with the provisions of Article 5.

Additional information on the products subject to safeguards and the additional duties which may apply can be found in subchapter IV of chapter 99 of the Harmonized Tariff Schedule of the United States (2023) and in the Secretary of Agriculture's Notice of Uruguay Round Agricultural Safeguard Trigger Levels, published in the Federal Register at 60 FR 427 (Jan. 4, 1995).

Notice: As provided in section 405 of the Uruguay Round Agreements Act, consistent with Article 5 of the WTO Agreement on Agriculture, the safeguard quantity trigger levels previously notified are superseded by the levels indicated in the Annex to this notice. The definitions of these products were provided in the Notice of Safeguard Action published in the Federal Register, at 60 FR 427 (Jan. 4, 1995).

Daniel Whitley,
Administrator, Foreign Agricultural Service.

Annex—Quantity-Based Safeguard Trigger
Product | 2023 Quantity-based safeguard trigger: Trigger level | 2023 Quantity-based safeguard trigger: Unit | 2023 Quantity-based safeguard trigger: Period
Beef | 347,198 | MT | Jan 1, 2023-Dec 31, 2023.
Mutton | 4,552 | MT | Jan 1, 2023-Dec 31, 2023.
Cream | 9,985,720 | Liters | Jan 1, 2023-Dec 31, 2023.
Evaporated or Condensed Milk | 6,653,570 | Kilograms | Jan 1, 2023-Dec 31, 2023.
Nonfat Dry Milk | 1,756,313 | Kilograms | Jan 1, 2023-Dec 31, 2023.
Dried Whole Milk | 4,143,647 | Kilograms | Jan 1, 2023-Dec 31, 2023.
Dried Cream | 53,297 | Kilograms | Jan 1, 2023-Dec 31, 2023.
Dried Whey/Buttermilk | 223,737 | Kilograms | Jan 1, 2023-Dec 31, 2023.
Butter ¹ | 48,065,758 | Kilograms | Jan 1, 2023-Dec 31, 2023.
Butteroil | 26,189,838 | Kilograms | Jan 1, 2023-Dec 31, 2023.
Chocolate Crumb | 12,725,670 | Kilograms | Jan 1, 2023-Dec 31, 2023.
Lowfat Chocolate Crumb | 829,149 | Kilograms | Jan 1, 2023-Dec 31, 2023.
Animal Feed Containing Milk | 193,835 | Kilograms | Jan 1, 2023-Dec 31, 2023.
Ice Cream | 14,903,971 | Liters | Jan 1, 2023-Dec 31, 2023.
Dairy Mixtures | 24,530,673 | Kilograms | Jan 1, 2023-Dec 31, 2023.
Infant Formula Containing Oligosaccharides | 9,621,394 | Kilograms | Jan 1, 2023-Dec 31, 2023.
Blue Cheese | 3,819,960 | Kilograms | Jan 1, 2023-Dec 31, 2023.
Cheddar Cheese | 12,221,307 | Kilograms | Jan 1, 2023-Dec 31, 2023.
American-Type Cheese | 74,528 | Kilograms | Jan 1, 2023-Dec 31, 2023.
Edam/Gouda Cheese | 12,097,071 | Kilograms | Jan 1, 2023-Dec 31, 2023.
Italian-Type Cheese | 23,283,445 | Kilograms | Jan 1, 2023-Dec 31, 2023.
Swiss Cheese with Eye Formation | 23,441,766 | Kilograms | Jan 1, 2023-Dec 31, 2023.
Gruyere Process Cheese | 4,168,160 | Kilograms | Jan 1, 2023-Dec 31, 2023.
NSPF Cheese | 45,793,590 | Kilograms | Jan 1, 2023-Dec 31, 2023.
Lowfat Cheese | 120,534 | Kilograms | Jan 1, 2023-Dec 31, 2023.
Peanut Butter/Paste | 4,738 | MT | Jan 1, 2023-Dec 31, 2023.
Peanuts ¹ | 673 | MT | April 1, 2022-Mar 31, 2023.
| 5,947 | MT | April 1, 2023-Mar 31, 2024.
Raw Cane Sugar ¹ | 634,554 | MT | Oct 1, 2022-Sep 30, 2023.
| 899,349 | MT | Oct 1, 2023-Sep 30, 2024.
Refined Sugars and Syrup ¹ | 280,612 | MT | Oct 1, 2022-Sep 30, 2023.
| 639,299 | MT | Oct 1, 2023-Sep 30, 2024.
Articles over 65% Sugar | 662 | MT | Oct 1, 2022-Sep 30, 2023.
| 975 | MT | Oct 1, 2023-Sep 30, 2024.
Articles over 10% Sugar | 22,852 | MT | Oct 1, 2022-Sep 30, 2023.
| 25,111 | MT | Oct 1, 2023-Sep 30, 2024.
Blended Syrups | 463 | MT | Oct 1, 2022-Sep 30, 2023.
| 965 | MT | Oct 1, 2023-Sep 30, 2024.
Sweetened Cocoa Powder | 727 | MT | Oct 1, 2022-Sep 30, 2023.
| 671 | MT | Oct 1, 2023-Sep 30, 2024.
Mixes and Doughs | 4,420 | MT | Oct 1, 2022-Sep 30, 2023.
| 4,400 | MT | Oct 1, 2023-Sep 30, 2024.
Mixed Condiments and Seasonings | 446 | MT | Oct 1, 2022-Sep 30, 2023.
| 799 | MT | Oct 1, 2023-Sep 30, 2024.
Short Staple Cotton ² | 18,889 | Kilograms | Sep 20, 2022-Sep 19, 2023.
| 13,415 | Kilograms | Sep 20, 2023-Sep 19, 2024.
Harsh or Rough Cotton | 0 | Kilograms | Aug 1, 2022-July 31, 2023.
| 0 | Kilograms | Aug 1, 2023-July 31, 2024.
Extra Long Staple Cotton | 724,706 | Kilograms | Aug 1, 2022-July 31, 2023.
| 747,139 | Kilograms | Aug 1, 2023-July 31, 2024.
Medium Staple Cotton | 173 | Kilograms | Aug 1, 2022-July 31, 2023.
| 163 | Kilograms | Aug 1, 2023-July 31, 2024.
Cotton Waste ² | 1,510,045 | Kilograms | Sep 20, 2022-Sep 19, 2023.
| 1,385,381 | Kilograms | Sep 20, 2023-Sep 19, 2024.
Cotton Processed but not Spun ² | 202 | Kilograms | Sep 11, 2022-Sep 10, 2023.
| 18,752 | Kilograms | Sep 11, 2023-Sep 10, 2024.
¹ Includes change in U.S. consumption.
² 12-month period from October to September.

[FR Doc. 2023-12892 Filed 6-15-23; 8:45 am]

BILLING CODE 3410-10-P